DEPARTMENT OF ENERGY

Federal Energy Regulatory Commission

[Docket No. RP00-264-000]

Northern Natural Gas Company; Notice of Rescheduling of Technical Conference

June 27, 2000.

In the Commission's order issued on May 31, 2000,¹ the Commission directed that a technical conference be held to address issues raised by the filing.

¹ 91 FERC ¶ 61,216 (2000).

Take notice that the technical conference has been rescheduled for Thursday, July 20, 2000, at 9:30 a.m. in a room to be designated at the offices of the Federal Energy Regulatory Commission, 888 First Street, NE, Washington, DC 20426.

All interested parties and Staff are permitted to attend.

David P. Boergers,
Secretary.

[FR Doc. 00-16698 Filed 6-30-00; 8:45 am]

BILLING CODE 6717-01-M